INTERNATIONAL TRADE COMMISSION

[Investigation No. 337-TA-729]

In the Matter of Certain Semiconductor Products Made by Advanced Lithography Techniques and Products Containing Same; Notice of Commission Decision Not to Review an Initial Determination Terminating The Investigation

AGENCY: U.S. International Trade Commission.

ACTION: Notice.

SUMMARY: Notice is hereby given that the U.S. International Trade Commission has determined not to review the presiding administrative law judge's initial determination (“ID”) (Order No. 11) granting a joint motion to terminate the investigation as to one respondent on the basis of a settlement agreement, and terminating the investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 27, 2010, based on a complaint filed by STC.UNM (Albuquerque, New Mexico) (“STC”), alleging a violation of section 337 in the importation, sale for importation, and sale within the United States after importation of certain semiconductor products made by advanced lithography techniques and products containing same, by reason of infringement of certain claims of U.S. Patent No. 6,042,998. 75 FR. 44,015 (July 27, 2010). The complaint named two respondents: Taiwan Semiconductor Manufacturing, Co., Ltd. (Taiwan) (“TSMC”); and Samsung Electronics Co., Ltd. (South Korea) (“Samsung”). On December 8, 2010, the Commission determined not to review Order No. 10, an ID that terminated the investigation as against Samsung on the basis of a settlement agreement.

On November 15, 2010, STC and TSMC filed a joint motion to terminate the investigation as against TSMC on the basis of a settlement agreement. On November 24, 2010, the Commission investigative attorney filed a response supporting the motion. On December 6, 2010, the ALJ granted the motion. Order No. 11. Because TSMC is the last respondent, termination against TSMC results in termination of the investigation.

No petitions for review of the ID were filed. The Commission has determined not to review the ID.

The authority for the Commission's determination is contained in section 337 of the Tariff Act of 1930, as amended (19 U.S.C. 1337), and in sections 210.21 and 210.42 of the Commission's Rules of Practice and Procedure (19 CFR 210.21, 210.42).

By order of the Commission.
Issued: December 21, 2010.
Marilyn R. Abbott,
Secretary to the Commission.

[FR Doc. 2010-32515 Filed 12-27-10; 8:45 am]

BILLING CODE 7020-02-P